OFFICE OF THE UNITED STATES TRADE REPRESENTATIVE

Generalized System of Preferences (GSP): Notice of Difficulty in Receiving Petitions for the 2006 Annual GSP Product and Country Practices Review

AGENCY: Office of the United States Trade Representative.

ACTION: Notice of difficulty in receiving petitions for the 2006 Annual GSP Product and Country Practices Review.

SUMMARY: This notice identifies those petitions that the Office of the United States Trade Representative (USTR) received by the deadline of July 20, 2006, for consideration in the 2006 Annual Review. Because of technical difficulties in receiving petitions, USTR requests parties who submitted petitions prior to July 20, 2006, to review the list of petitioners included in the SUPPLEMENTARY INFORMATION and to notify the USTR of any petitions that were submitted to the GSP Subcommittee by 5 p.m., July 20, 2006, but not included in that list.

FOR FURTHER INFORMATION CONTACT: The GSP Subcommittee of the Trade Policy Staff Committee, Office of the United States Trade Representative, 1724 F Street, NW., Room F-220, Washington, DC 20508. The telephone number is (202) 395-6971, the facsimile number is (202) 395-9481, and the e-mail address is FR0618@USTR.EOP.GOV.

SUPPLEMENTARY INFORMATION: On June 29, 2006, USTR published a request for petitions for the 2006 Annual GSP Product and Country Practices Review (71 FR 37129, June 29, 2006). Because of technical problems, USTR may not have received all the petitions which were submitted. We did receive petitions from the following parties: ANFACER (Brazilian Association of Ceramic Tile Manufacturers), The Home Depot, the International Intellectual Property Association (IIPA), AFL-CIO, and R&J Trading International Company, Inc. Parties that can verify submission of a petition not included in this list should call the GSP Subcommittee at (202) 395-6971 and then resubmit the petition to FR0618@USTR.EOP.GOV. Parties must also include proof that the petition was transmitted by e-mail to the GSP Subcommittee by the July 20, 2006, deadline. Such documentation may include a copy of the original e-mail transmitting the petition, indicating the original date and time, from a “sent message” folder. The deadline for re-submitting any petitions meeting these criteria is 5 p.m., August 11, 2006.

Public Review: Public versions of all documents relating to the 2006 Annual Review will be available for examination on or before August 21, 2006, by appointment, in the USTR public reading room, 1724 F Street, NW., Washington, DC. Appointments may be made from 9:30 a.m. to noon and 1 p.m. to 4 p.m., Monday through Friday, by calling (202) 395-6186.

Marideth Sandler,
Executive Director GSP, Chairman, GSP Subcommittee of the Trade Policy Staff Committee.

[FR Doc. E6-12313 Filed 7-31-06; 8:45 am]

BILLING CODE 3190-W6-P